DEPARTMENT OF COMMERCE

International Trade Administration

[C-201-846]

Agreement Suspending the Countervailing Duty Investigation on Sugar From Mexico: Final Results of the 2021 Administrative Review

AGENCY: Enforcement and Compliance, International Trade Administration, Department of Commerce.

SUMMARY: The U.S. Department of Commerce (Commerce) determines that the Government of Mexico (GOM) and the respondent companies selected for individual examination, Ingenio Tala S.A. de C.V. and its affiliates (collectively, GAM Group) and Ingenio Tamazula S.A. de C.V. (Tamazula) (collectively, respondents), were in compliance with the terms of the Agreement Suspending the Countervailing Duty Investigation on Sugar from Mexico, as amended (CVD Agreement), during the period of review (POR) from January 1, 2021, through December 31, 2021. Commerce also determines that the CVD Agreement met the statutory requirements during the POR.

DATES: Applicable July 10, 2023.

FOR FURTHER INFORMATION CONTACT: Sally C. Gannon or David Cordell, Enforcement and Compliance, International Trade Administration, U.S. Department of Commerce, 1401 Constitution Avenue NW, Washington, DC 20230; telephone: (202) 482-0162 or (202) 482-0408, respectively.

SUPPLEMENTARY INFORMATION:

Background

On January 4, 2023, Commerce published the Preliminary Results of this administrative review.¹ Commerce conducted verification from May 9 to 12, 2023.²

¹ See Agreement Suspending the Countervailing Duty Investigation on Sugar from Mexico; Preliminary Results of the 2021 Administrative Review, 88 FR 341 (January 4, 2023) (Preliminary Results).

² See Memorandum, “Verification of the Responses of Ingenio Tala S.A. de C.V. and its Affiliates in the Administrative Review of Sugar from Mexico,” dated June 5, 2023; Memorandum, “Verification of the Responses of Ingenio Tamazula S.A. de C.V. and its Affiliates in the Administrative Review of Sugar from Mexico,” dated June 5, 2023; and Memorandum, “Verification of the Responses of the Government of Mexico in the Administrative Review of Sugar from Mexico,” dated June 7, 2023.

On June 15, 2023, the American Sugar Coalition and its members (collectively, petitioners) filed a case brief,³ and the GOM filed a letter in lieu of a case brief.⁴ On June 22, 2023, respondents,⁵ petitioners,⁶ and the GOM ⁷ each filed letters in lieu of rebuttal briefs.

³ See Petitioners' Letter, “Case Brief on Behalf of the American Sugar Coalition,” dated June 15, 2023.

⁴ See GOM's Letter, “Letter in Lieu of Case Brief,” dated June 15, 2023.

⁵ See Respondents' Letter, “Letter in Lieu of Rebuttal Brief,” dated June 22, 2023.

⁶ See Petitioners' Letter, “Letter in Lieu of Rebuttal Brief,” dated June 22, 2023.

⁷ See GOM's Letter, “Letter in Lieu of Rebuttal Brief,” dated June 22, 2023.

Scope of the CVD Agreement

The product covered by this CVD Agreement is raw and refined sugar of all polarimeter readings derived from sugar cane or sugar beets. Merchandise covered by this CVD Agreement is typically imported under the following headings of the HTSUS: 1701.12.1000, 1701.12.5000, 1701.13.1000, 1701.13.5000, 1701.14.1020, 1701.14.1040, 1701.14.5000, 1701.91.1000, 1701.91.3000, 1701.99.1015, 1701.99.1017, 1701.99.1025, 1701.99.1050, 1701.99.5015, 1701.99.5017, 1701.99.5025, 1701.99.5050, and 1702.90.4000.⁸ The tariff classification is provided for convenience and customs purposes; however, the written description of the scope of this CVD Agreement is dispositive.

⁸ Prior to July 1, 2016, merchandise covered by the CVD Agreement was classified in the HTSUS under subheading 1701.99.1010. Prior to January 1, 2020, merchandise covered by the CVD Agreement was classified in the HTSUS under subheadings 1701.14.1000 and 1701.99.5010.

A full description of the scope of the CVD Agreement is contained in the Issues and Decision Memorandum.⁹

⁹ See Memorandum, “Issues and Decision Memorandum for the Final Results of the 2021 Administrative Review of the Agreement Suspending the Countervailing Duty Investigation on Sugar from Mexico, as Amended,” dated concurrently with, and hereby adopted by, this notice (Issues and Decision Memorandum).

Analysis

Commerce continues to determine that the CVD Agreement met the statutory requirements under sections 704(c) and (d) of the Act, during the POR. We also continue to find, based on record evidence, that the GOM and respondents, the GAM Group and Tamazula, were in compliance with the terms of the CVD Agreement during the POR. However, we intend to consult with the GOM under Section VIII.D.4 of the CVD Agreement (“Operations Consultations”) to discuss issues raised in this review. Such consultations are necessary to ensure adherence to the statutory requirements of the CVD Agreement and that any potential administrative challenges to effective monitoring are diminished.

The issues raised in the case and rebuttal briefs are addressed in the accompanying Issues and Decision Memorandum.¹⁰ The issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹⁰ Id.

Notification Regarding Administrative Protective Order

This notice also serves as a final reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results of review in accordance with sections 751(a)(l) and 777(i)(l) of the Act and 19 CFR 351.213 and 19 CFR 351.221(b)(5).

Dated: July 3, 2023.
Lisa W. Wang,
Assistant Secretary for Enforcement and Compliance.

Appendix

List of Topics Discussed in the Issues and Decision Memorandum

I. Summary

II. Background

III. Scope of the Agreement

IV. Discussion of the Issues

Comment 1: Presentation of Export Licenses at the Time of Entry

Comment 2: Informal Swap Transactions and the Potential for Circumvention

V. Recommendation

[FR Doc. 2023-14501 Filed 7-7-23; 8:45 am]

BILLING CODE 3510-DS-P